DEPARTMENT OF DEFENSE

Department of the Army

[Docket ID: USA-2015-HQ-0045]

Proposed Collection; Comment Request

AGENCY: Civilian Human Resources Agency, DoD.

ACTION: Notice.

SUMMARY: In compliance with the Paperwork Reduction Act of 1995, the Civilian Human Resources Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 19, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Department of Defense, Headquarters Department of the Army (HQDA) G-1, Civilian Human Resources Agency (CHRA), ATTN: Civilian Information Services Division (CISD), Mark A. Patterson, Chief, Fort Belvoir, VA 22060, or call CISD at 703-806-3232.

SUPPLEMENTARY INFORMATION:

Title; Associated Form; and OMB Number: Army Recruitment & Personnel Management of Local Foreign National Employment; AE Form 690-70A; OMB Control Number 0702-XXXX.

Needs and Uses: The information collection requirement is necessary to issue referral notices to fill jobs, issue a priority placement referral for individuals under Reduction-In-Force (RIF), to generate termination notifications, and to apply for initial employment.

Affected Public: Individuals or households.

Annual Burden Hours: 1,670.

Number of Respondents: 10,000.

Responses per Respondent: 1.

Annual Responses: 10,000.

Average Burden per Response: 10 minutes.

Frequency: On occasion.

This OMB number is being requested to support recruitment and personnel management of local foreign national (FN) employment. The following systems currently fall under this scope: Local National Staffing Suite [LNSS] and Korean National Recruitment System [KNRS].

LNSS consists of the Local National Recruitment System (LNRS) and the Europe Summer Hire Application (ESH).

AE Form 690-70A is the application form that employment respondents must complete to be considered for positions in Germany. The form is written in both English and German. The completed form is stored as a record of the respondent's personal information, education, employment history, military history, and availability, as well as a list of applicable language(s) and other skills. If this form is not submitted, the respondent will not be eligible for employment positions through LNSS. Personally Identifiable Information (PII) on the AE Form 690-70A is entered into the LNSS system by the Administration Assistant.

Local National Recruitment System (LNRS) is a component of Local National Staffing Suite (LNSS). LNRS was developed to automate German Local National (LN) recruitment processes for United States Army Europe (USAREUR). The application supports the Army Civilian Personnel Operations Center (CPOC) and services Civilian Personnel Advisory Centers (CPACs) in Europe. The application is primarily used to automate local national recruitment processes for USAREUR including Priority Placement, Reduction In Force, and Referrals, while taking into account the Local National Tariff Agreements. LNRS is accessible at the following URL: https://acpol2.army.mil/lnrs.

Europe Summer Hire Application (ESH) is a component of Local National Staffing Suite (LNSS). ESH is a Web-based government developed Linux application accessible at https://acpol2.army.mil/sh/staffing/summerhire. ESH allows the accumulation of resume data for summer hiring of German local nationals to work in and support the Army USAREUR civilian personnel community. ESH is designed to contain and rank resumes of local nationals in USAREUR area to work in and support the Army civilian personnel community and to allow the HR Specialist to review the resume information. ESH consists of a Linux web/application server using Microsoft Internet Information Services (IIS) and a Linux database server using Oracle.

Korean National Recruitment System (KNRS) respondents are employment applicants. KNRS was developed to provide immediate and accurate status/response to applicants via a Web-based interface. KNRS provides customers with a timely and more reliable customer service system. It also eliminates the long wait periods when recruiting Korean National (KN) employees to support the Army's FN mission. Respondents (applicants) enter their own employment application information directly into the electronic form in the system. The electronic form is a record of the respondent's personal information, education, employment history, military history, and other qualifications and skills. If this electronic form is not submitted, the respondent will not be eligible for the KN employment position. KNRS is accessible at the following URL: https://lr.acpol.army.mil/knrs/selfservice.

Dated: November 10, 2015.
Aaron Siegel,
Alternate OSD Federal Register Liaison Officer, Department of Defense.

[FR Doc. 2015-29248 Filed 11-16-15; 8:45 am]

BILLING CODE 5001-06-P